DEPARTMENT OF TRANSPORTATION

Federal Aviation Administration

Agency Information Collection Activities: Requests for Comments; Revision of a Currently Approved Information Collection: Air Traffic Slots Management

AGENCY: Federal Aviation Administration (FAA), DOT.

ACTION: Notice and request for comments.

SUMMARY: In accordance with the Paperwork Reduction Act of 1995, the FAA invites public comments about our intention to request approval from the Office of Management and Budget (OMB) to revise a currently approved information collection. The FAA collects information to allocate slots and maintain accurate records of slot transfers at slot-controlled and schedule-facilitated airports. The information is provided by air carriers and other operators at all impacted airports.

DATES: Written comments should be submitted by December 12, 2016.

ADDRESSES: Send comments to the FAA at the following address: Ronda Thompson, Federal Aviation Administration, ASP-110, 800 Independence Ave. SW., Washington, DC 20591.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION:

OMB Control Number: 2120-0524.

Title: Air Traffic Slots Management.

Form Numbers: There are no FAA forms associated with this collection.

Type of Review: Revision of an information collection.

Background: The FAA has implemented several initiatives to address congestion and delay issues within the National Airspace System. The FAA has issued Orders limiting operations at John F. Kennedy International Airport (JFK), Newark Liberty International Airport (EWR), and LaGuardia Airport (LGA). These Orders resulted in part from increasing congestion and delays at the airports requiring the FAA to allocate arrival and departure slots at JFK, EWR, and LGA. On April 6, 2016, the FAA announced a reduction in slot controls at EWR and designation of EWR as a Level 2, schedule-facilitated airport under the International Air Transport Association (IATA) Worldwide Slot Guidelines (WSG) based on an updated demand and capacity analysis of the airport. This change is effective from the Winter 2016 scheduling season, which begins on October 30, 2016. The FAA also has designated O'Hare International Airport (ORD), San Francisco International Airport (SFO), and Los Angeles International Airport (LAX) as Level 2 airports under the IATA WSG. These Level 2 designations resulted in part from increasing congestion and delays at the airports requiring FAA to implement a voluntary process to manage operational growth at ORD and SFO. The Level 2 designation was made at LAX due to a long-term construction project expected to reduce runway capacity; therefore, the designation is not expected to continue beyond the completion of the planned construction at LAX.

The information is reported to the FAA by carriers holding a slot at JFK or LGA; by carriers operating at EWR, LAX, ORD, or SFO; and by operators conducting unscheduled operations at LGA. At JFK, carriers must notify the FAA of: (1) Requests for confirmation of transferred slots; (2) requests for seasonal allocation of historic and additional available slots; and (3) usage of slots on a seasonal basis. At LGA, carriers must notify the FAA of: (1) Requests for confirmation of transferred slots; (2) slots required to be returned or slots voluntarily returned; (3) requests to be included in a lottery for available slots; and (4) usage of slots on a bi-monthly basis. At LGA, unscheduled operators must request and obtain a reservation from the FAA prior to conducting an operation. At EWR, LAX, ORD and SFO, carriers are asked to notify the FAA of their intended operating schedules during peak hours on a semiannual basis. The FAA estimates that all information from carriers is submitted electronically from information stored in carrier scheduling databases, and that nearly all requests for unscheduled operation reservations are submitted electronically through either an internet or touch-tone system interface.

Respondents: 200 carriers at various airports; unknown number of unscheduled operators at LaGuardia Airport.

Frequency: Information is collected as needed; some reporting on bimonthly or semiannual basis.

Estimated Average Burden per Response: 2 minutes per unscheduled operation reservation; 6 minutes per notice of slot transfer; 2 hour per schedule submission or slot request; and 2 hours per slot usage report.

Estimated Total Annual Burden: 5,049.5 hours.

Issued in Washington, DC, on October 6, 2016.
Ronda L. Thompson,
FAA Information Collection Clearance Officer, Performance, Policy, and Records Management Branch, ASP-110.

[FR Doc. 2016-24772 Filed 10-12-16; 8:45 am]

BILLING CODE 4910-13-P